DEPARTMENT OF THE INTERIOR

National Park Service

[NPS-NER-HPPC-11732; PPWONRADE2 PMP00EI05]

Chronic Wasting Disease Management Plan/Environmental Impact Statement, Shenandoah National Park

AGENCY: National Park Service, Interior.

ACTION: Notice of Intent.

SUMMARY: Pursuant to Section 102(2)(C) the National Environmental Policy Act of 1969 and the Council on Environmental Quality regulations, the National Park Service (NPS) is preparing a Chronic Wasting Disease Management Plan and Environmental Impact Statement (CWD Management Plan/EIS) for Shenandoah National Park, Virginia. Action is needed at this time prevent the establishment of CWD in the white-tailed deer population of Shenandoah National Park and, should the disease become established, to slow the spread of the disease. To ensure that all significant issues are identified and considered, all interested parties are invited to comment on the proposed scope of the project, the purpose, need, and objectives of the plan, and draft alternatives.

DATES: The National Park Service will accept comments from the public for a period of 60 days after the date of publication in the Federal Register. Public meetings will be held during the review period to facilitate the submission of public comment. Once scheduled, the meeting dates will be announced on the NPS's Planning Environment and Public Comment (PEPC) Web site (http://parkplanning.nps.gov/shen); by newsletter posted on the Shenandoah National Park Web page (www.nps.gov/shen); and by a press release to the local media.

ADDRESSES: The preferred method of comment is to submit comments electronically through the NPS PEPC Web site (http://parkplanning.nps.gov/shen). You may also mail comments to Superintendent, Shenandoah National Park, 3655 U.S. Highway 211 East, Luray, VA, 22835.

FOR FURTHER INFORMATION CONTACT: Erin Flanagan, National Park Service, Denver Service Center, at (303) 969-2327.

SUPPLEMENTARY INFORMATION: A long-range CWD Management Plan is needed at this time because: CWD is established and spreading within the region and represents a threat to white-tailed deer, which are an important park resource; the risk of CWD introduction and amplification is high because of high deer population density in certain areas of the park and deer movement in and out of the park; there is no known treatment to eliminate CWD once it is established in the population; a variety of management options must be considered to limit the prevalence and minimize spread; and CWD is a nonnative disease process, therefore, NPS policy states that CWD should be managed or eliminated, if prudent and feasible.

To date, Shenandoah National Park has prepared a CWD Detection and Assessment Plan and Environmental Assessment which, when completed and approved, will guide future actions for detecting and responding to initial CWD cases within the park. The next step is to comprehensively evaluate alternative approaches for long-term management of CWD, which is the purpose of the proposed CWD Management Plan/EIS.

The objectives of the long-range CWD management plan are to: Prevent CWD establishment and, should CWD become established, slow the spread of CWD within the park; monitor disease progression and impacts on park resources; provide a framework to assess or evaluate the success of the management actions and for the NPS to cooperate with other state and federal agencies on the management of CWD; develop public support for CWD management through education; minimize disruption to visitor use and experience from management actions; and minimize the potential for health and safety issues for park staff and visitors during CWD management activities.

The NPS has begun development of two action alternatives that will be made available for public comment as part of the scoping process. The first action alternative proposes a phased approach to CWD management and would be implemented when CWD is identified within a specified distance from the park. In slight contrast, the second alternative would initiate management actions immediately, rather than in response to proximity of CWD detection to the boundaries of the park. The NPS will also evaluate a no action alternative, under which current management approaches would continue, including implementation of the approved CWD detection and assessment plan.

To ensure that all significant issues are identified and considered, all interested parties are invited to comment on the proposed scope of the project; the purpose, need and objectives of the plan; and draft alternatives. These materials will be available for review and comment on the NPS PEPC Web site (http://parkplanning.nps.gov/shen) and the park's Web page (www.nps.gov/shen).

Before including your address, phone number, email address, or other personal identifying information in your comment, you should be aware that your entire comment—including your personal identifying information—may be made publicly available at any time. While you can ask us in your comment to withhold your personal identifying information from public review, we cannot guarantee that we will be able to do so.

Dated: November 20, 2012.
Dennis R. Reidenbach,
Regional Director, Northeast Region, National Park Service.

[FR Doc. 2013-04549 Filed 2-26-13; 8:45 am]

BILLING CODE 4310-WV-P